DEPARTMENT OF ENERGY

Federal Energy Regulatory Commission

[Project No. 2484-018; 2464-015]

Gresham Municipal Utilities; Notice of Availability of Environmental Assessment

In accordance with the National Environmental Policy Act of 1969 and the Federal Energy Regulatory Commission's (Commission or FERC) regulations, 18 CFR part 380 (Order No. 486, 52 Federal Register 47897), the Office of Energy Projects has reviewed applications for subsequent licenses for the Upper Red Lake Dam Hydroelectric Project (FERC Project No. 2484-018) and the Weed Dam Hydroelectric Project (FERC Project No. 2464-015), located on the Red River in Shawano County, Wisconsin. The projects do not occupy federal land.

The environmental assessment analyzes the potential environmental effects of continuing to operate the projects, and concludes that issuing subsequent licenses for the projects, with appropriate environmental measures, would not constitute a major federal action significantly affecting the quality of the human environment.

A copy of the EA is available for review at the Commission in the Public Reference Room or may be viewed on the Commission's Web site at http://www.ferc.gov using the “eLibrary” link. Enter either docket number, excluding the last three digits in the docket number field, to access the document. For assistance, contact FERC Online Support at FERCOnlineSupport@ferc.gov, at (866) 208-3676 (toll free), or (202) 502-8659 (TTY).

You may also register online at http://www.ferc.gov/docs-filing/esubscription.asp to be notified via email of new filings and issuances related to these or other pending projects. For assistance, contact FERC Online Support.

Any comments should be filed within 30 days from the date of this notice. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support.

Although the Commission strongly encourages electronic filing, documents may also be paper-filed. In lieu of electronic filing, please send a paper copy to: Secretary, Federal Energy Regulatory Commission, 888 First Street NE., Washington, DC 20426. Please put docket number(s) “P-2464-015” and/or “P-2484-018,” as appropriate, on the first page of your response.

For further information, please contact Chelsea Hudock by phone at (202) 502-8448, or by email at chelsea.hudock@ferc.gov.

Dated: July 21, 2016.
Kimberly D. Bose,
Secretary.

[FR Doc. 2016-17852 Filed 7-27-16; 8:45 am]

BILLING CODE 6717-01-P